DEPARTMENT OF DEFENSE

Office of the Secretary

[Docket ID DoD-2021-OS-0034]

Submission for OMB Review; Comment Request

AGENCY: Defense Media Activity (DMA), Department of Defense (DoD).

ACTION: Information collection notice.

SUMMARY: Consistent with the Paperwork Reduction Act of 1995 and its implementing regulations, this document provides notice DoD is submitting an Information Collection Request to the Office of Management and Budget (OMB) to collect information on active duty military members, DoD civilians, and contractors, inform COVID-19 vaccine status and return to in-person work. DoD requests emergency processing and OMB authorization to collect the information.

DATES: Comments must be received by May 17, 2021.

ADDRESSES: The Department has requested emergency processing from OMB for this information collection request by 10 days after publication of this notice. Interested parties can access the supporting materials and collection instrument as well as submit comments and recommendations to OMB at www.reginfo.gov/public/do/PRAMain. Find this particular information collection by selecting “Currently under 10-day Review—Open for Public Comments” or by using the search function.

Comments submitted in response to this notice will be summarized and included in the request for OMB approval of this information collection. They will also become a matter of public record.

FOR FURTHER INFORMATION CONTACT: Angela Duncan, 571-372-7574, or whs.mc-alex.esd.mbx.dd-dod-information-collections@mail.mil.

SUPPLEMENTARY INFORMATION: The results of the DMA COVID-19 Vaccine Survey will provide DMA leadership with an understanding of the proportion of the workforce that is vaccinated, or does not wish to be vaccinated, and support responses to data calls. This will assist with DMA's development of strategies for returning to in-person work. This exemption will allow the survey to be fielded as soon as possible so the results can inform imminent planning and provide responses to data calls.

Title; Associated Form; and OMB Number: DMA COVID-19 Vaccine Census; 0704-DCVC.

Type of Request: New.

Number of Respondents: 2,000.

Responses per Respondent: 1.

Annual Responses: 2,000.

Average Burden per Response: 5 minutes.

Annual Burden Hours: 167.

Affected Public: Individuals or Households.

Frequency: Once.

Respondent's Obligation: Voluntary.

Request for Comments

Comments are invited on: (1) Whether the proposed collection of information is necessary for the proper performance of the functions of DoD, including whether the information collected has practical utility; (2) the accuracy of DoD's estimate of the burden (including hours and cost) of the proposed collection of information; (3) ways to enhance the quality, utility, and clarity of the information to be collected; and (4) ways to minimize the burden of the collection of information on respondents, including automated collection techniques or the use of other forms of information technology.

Dated: May 3, 2021.
Aaron T. Siegel,
Alternate OSD Federal Register Liaison Officer, Department of Defense.

[FR Doc. 2021-09706 Filed 5-6-21; 8:45 am]

BILLING CODE 5001-06-P